DEPARTMENT OF ENERGY

Federal Energy Regulatory Commission

Combined Notice of Filings #1

Take notice that the Commission received the following exempt wholesale generator filings:

Docket Numbers: EG22-63-000.

Applicants: Emerald Grove Solar, LLC.

Description: Emerald Grove Solar, LLC submits Notice of Self-Certification of Exempt Wholesale Generator Status.

Filed Date: 3/15/22.

Accession Number: 20220315-5240.

Comment Date: 5 p.m. ET 4/5/22.

Docket Numbers: EG22-64-000.

Applicants: Brightside Solar, LLC.

Description: Notice of Self-Certification of Exempt Wholesale Generator Status of Brightside Solar, LLC.

Filed Date: 3/15/22.

Accession Number: 20220315-5243.

Comment Date: 5 p.m. ET 4/5/22.

Docket Numbers: EG22-65-000.

Applicants: High Point Solar LLC.

Description: High Point Solar LLC submits Notice of Self-Certification of Exempt Wholesale Generator Status.

Filed Date: 3/16/22.

Accession Number: 20220316-5079.

Comment Date: 5 p.m. ET 4/6/22.

Take notice that the Commission received the following Complaints and Compliance filings in EL Dockets:

Docket Numbers: EL21-77-000.

Applicants: Tenaska Clear Creek Wind, LLC v. Southwest Power Pool, Inc.

Description: Southwest Power Pool, Inc submits Results of the Restudy for the Tenaska Clear Creek Wind Project in Response to the December 16 Order.

Filed Date: 3/11/22.

Accession Number: 20220311-5274.

Comment Date: 5 p.m. ET 4/1/22.

Docket Numbers: EL22-42-000.

Applicants: RENEW Northeast, Inc. and the American Clean Power Association v. ISO New England Inc.

Description: Complaint of RENEW Northeast, Inc. and the American Clean Power Association v. ISO New England, Inc.

Filed Date: 3/15/22.

Accession Number: 20220315-5286.

Comment Date: 5 p.m. ET 4/4/22.

Take notice that the Commission received the following electric rate filings:

Docket Numbers: ER04-835-010.

Applicants: California Independent System Operator Corporation, Pacific Gas and Electric Company.

Description: Refund Report of California Independent System Operator Corporation.

Filed Date: 3/16/22.

Accession Number: 20220316-5113.

Comment Date: 5 p.m. ET 4/6/22.

Docket Numbers: ER22-1050-001.

Applicants: DesertLink, LLC.

Description: Tariff Amendment: DesertLinks Amended Formula Rate Revision Filing to be effective 4/18/2022.

Filed Date: 3/16/22.

Accession Number: 20220316-5060.

Comment Date: 5 p.m. ET 4/6/22.

Docket Numbers: ER22-1354-000.

Applicants: PJM Interconnection, L.L.C.

Description: Tariff Amendment: Notice of Cancellation of CSA, Service Agreement No. 5500; Queue No. AC1-216 to be effective 2/15/2022.

Filed Date: 3/16/22.

Accession Number: 20220316-5031.

Comment Date: 5 p.m. ET 4/6/22.

Docket Numbers: ER22-1355-000.

Applicants: Energy Harbor LLC.

Description: Petition for Limited Waiver of Energy Harbor LLC.

Filed Date: 3/14/22.

Accession Number: 20220314-5316.

Comment Date: 5 p.m. ET 4/4/22.

Docket Numbers: ER22-1357-000.

Applicants: Midcontinent Independent System Operator, Inc., American Transmission Company LLC.

Description: Sec. 205(d) Rate Filing: Midcontinent Independent System Operator, Inc. submits tariff filing per § 35.13(a)(2)(iii): 2022-03-16_SA 2769 ATC-City of Reedsburg 2nd Rev CFA to be effective 5/16/2022.

Filed Date: 3/16/22.

Accession Number: 20220316-5056.

Comment Date: 5 p.m. ET 4/6/22.

Docket Numbers: ER22-1358-000.

Applicants: Midcontinent Independent System Operator, Inc., American Transmission Company LLC.

Description: Sec. 205(d) Rate Filing: Midcontinent Independent System Operator, Inc. submits tariff filing per § 35.13(a)(2)(iii): 2022-03-16_SA 2800 ATC-City of Stoughton 2nd Rev CFA to be effective 5/16/2022.

Filed Date: 3/16/22.

Accession Number: 20220316-5076.

Comment Date: 5 p.m. ET 4/6/22.

Docket Numbers: ER22-1359-000.

Applicants: Midcontinent Independent System Operator, Inc., American Transmission Company LLC.

Description: Sec. 205(d) Rate Filing: Midcontinent Independent System Operator, Inc. submits tariff filing per § 35.13(a)(2)(iii): 2022-03-16_SA 2805 ATC-Rock Energy Cooperative 2nd Rev CFA to be effective 5/16/2022.

Filed Date: 3/16/22.

Accession Number: 20220316-5077.

Comment Date: 5 p.m. ET 4/6/22.

Docket Numbers: ER22-1360-000.

Applicants: R-WS Antelope Valley Gen-Tie, LLC.

Description: Compliance filing: Shared Facilities Common Ownership Agreements and Request for Expedited Action to be effective 3/17/2022.

Filed Date: 3/16/22.

Accession Number: 20220316-5084.

Comment Date: 5 p.m. ET 4/6/22.

Docket Numbers: ER22-1361-000.

Applicants: Georgia-Pacific Toledo LLC.

Description: Sec. 205(d) Rate Filing: Filing of Revised MBR Tariff Record to be effective 3/17/2022.

Filed Date: 3/16/22.

Accession Number: 20220316-5088.

Comment Date: 5 p.m. ET 4/6/22.

Docket Numbers: ER22-1362-000.

Applicants: Georgia-Pacific Port Hudson LLC.

Description: Tariff Amendment: Notice of Cancellation of MBR Tariff to be effective 5/16/2022.

Filed Date: 3/16/22.

Accession Number: 20220316-5090.

Comment Date: 5 p.m. ET 4/6/22.

Docket Numbers: ER22-1363-000.

Applicants: Midcontinent Independent System Operator, Inc.

Description: Sec. 205(d) Rate Filing: 2022-03-16_ROE Additional Compliance Filing to be effective 9/28/2016.

Filed Date: 3/16/22.

Accession Number: 20220316-5106.

Comment Date: 5 p.m. ET 4/6/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at https://www.ferc.gov/docs-filing/efiling/filing-req.pdf. For other information, call (866) 208-3676 (toll free). For TTY, call (202) 502-8659.

Dated: March 16, 2022.
Debbie-Anne A. Reese,
Deputy Secretary.

[FR Doc. 2022-06027 Filed 3-21-22; 8:45 am]

BILLING CODE 6717-01-P